DEPARTMENT OF STATE

[Public Notice 5226]

Update on Current Universal Postal Union Issues

AGENCY: Department of State.

ACTION: Notice of briefing.

The Department of State will host a briefing on Wednesday, November 30, 2005, to provide an update on current Universal Postal Union issues, including the results of the October 2005 session of the UPU in Bern.

The briefing will be held from 1:30 p.m. until approximately 4:30 p.m., on November 30, 2005 in Room 1205 of the Department of State, 2201 C Street, NW., Washington, DC. The briefing will be open to the public up to the capacity of the meeting room of 50.

The briefing will provide information on the results of the October 2005 session of the UPU Council of Administration in Bern. Special attention will be paid to terminal dues, the UPU's efforts to measure service performance and achievement of UPU strategic plans, the U.S. Government strategic plan for the UPU, the work program of the Consultative Committee and further reform of the UPU. Deputy Assistant Secretary of State Terry Miller will chair the briefing.

Entry to the Department of State building is controlled and will be facilitated by advance arrangements. In order to arrange admittance, persons desiring to attend the briefing should, no later than close of business on November 29, 2005, notify the Office of Technical and Specialized Agencies, Bureau of International Organization Affairs, Department of State, preferably by fax. The name of the meeting and the individual's name, Social Security number, date of birth, professional affiliation, address and telephone number should be indicated. The fax number to use is (202) 647-8902. Voice telephone is (202) 647-1044. This request applies to both government and non-government individuals.

All attendees must use the main entrance of the Department of State at 22nd and C Streets, NW. Please note that under current security restrictions, C Street is closed to vehicular traffic between 21st and 23rd Streets. Taxis may leave passengers at 21st and C Streets, 23rd and C Streets, or 22nd Street and Constitution Avenue. One of the following means of identification will be required for admittance: any U.S. driver's license with photo, a passport, or any U.S. Government agency identification card.

Questions concerning the briefing may be directed to Mr. Dennis Delehanty at (202) 647-4197 or via e-mail at delehantydm@state.gov.

Dated: October 27, 2005.
Dennis M. Delehanty,
Director for Postal Affairs, Department of State.

[FR Doc. 05-22627 Filed 11-14-05; 8:45 am]

BILLING CODE 4710-19-P